Title 3—

The President

Memorandum of July 13, 2016

Delegation of Authority Under Section 610 of the Foreign Assistance Act of 1961

Memorandum for the Secretary of State

By the authority vested in me as President by the Constitution and the laws of the United States of America, including section 301 of title 3, United States Code, I hereby delegate to you the authority, subject to fulfilling the requirements of section 652 of the Foreign Assistance Act of 1961 (FAA), and section 7009(d) of the Department of State, Foreign Operations, and Related Programs Appropriations Act, 2010 (Division F, Public Law 111-117) (FY 2010 SFOAA), as carried forward by the Department of Defense and Full-Year Continuing Appropriations Act, 2011 (Division B, Public Law 112-10), and section 7009(d) of the FY 2012 SFOAA (Division I, Public Law 112-74), to make the requisite determination and execute the transfer under section 610 of the FAA of up to $21,380,000 in FY 2011 International Narcotics Control and Law Enforcement (INCLE) funds and up to $435,000 in FY 2012 INCLE funds to the Economic Support Fund account in order to provide assistance for Burma.

You are authorized and directed to publish this memorandum in the Federal Register.

THE WHITE HOUSE,

Washington, July 13, 2016

[FR Doc. 2016-17639

Filed 7-22-16; 8:45 am]

Billing code 4710-10-P